DEPARTMENT OF LABOR

Employment and Training Administration

[TA-W-64,768]

HDM/Henredon Morganton Operations, a Subsidiary of HDM Furniture Industries, Incorporated, a Subsidiary of Furniture Brands International, Incorporated; Morganton, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 30, 2009, applicable to workers of HDM/Henredon Morganton Operations, a subsidiary of HDM Furniture Industries, Incorporated, Morganton, North Carolina. The notice was published in the Federal Register on February 23, 2009 (74 FR 8115).

At the request of the State agency, the Department reviewed the certification for workers of the subject firm. The workers are engaged in administrative support, product development, engineering, human resources, accounting, payroll and catalog distribution services, related to the production of household furniture.

New information shows that Furniture Brands International, Incorporated is the parent firm of HDM/Henredon Morgan Operation, a subsidiary of HDM Furniture Industries, Incorporated. Workers wages at the subject firm are being reported under the Unemployment Insurance (UI) tax account for Furniture Brands International, Incorporated.

Accordingly, the Department is amending this certification to properly reflect this matter.

The intent of the Department's certification is to include all workers of HDM/Henredon Morganton Operations, a subsidiary of HDM Furniture Industries, Incorporated, a subsidiary of Furniture Brands International, Incorporated, Morganton, North Carolina who were adversely affected by a shift in the production of household furniture to China, Columbia, Indonesia and the Philippines.

The amended notice applicable to TA-W-64,768 is hereby issued as follows:

All workers of HDM/Henredon Morganton Operations, a subsidiary of HDM Furniture Industries, Incorporated, a subsidiary of Furniture Brands International, Incorporated, Morganton, North Carolina, who became totally or partially separated from employment on or after December 22, 2007 through January 30, 2011, are eligible to apply for adjustment assistance under Section 223 of the Trade Act of 1974, and are also eligible to apply for alternative trade adjustment assistance under Section 246 of the Trade Act of 1974.

Signed at Washington, DC this 19th day of October 2009.
Elliott S. Kushner,
Certifying Officer, Division of Trade Adjustment Assistance.

[FR Doc. E9-27020 Filed 11-9-09; 8:45 am]

BILLING CODE 4510-FN-P